DEPARTMENT OF JUSTICE

28 CFR Parts 35 and 36

[CRT Docket No. 138]

RIN 1190-AA61; RIN 1190-AA62; RIN 1190-AA64; RIN 1190-AA65

Nondiscrimination on the Basis of Disability; Notice of Withdrawal of Four Previously Announced Rulemaking Actions

AGENCY: Civil Rights Division, Department of Justice.

ACTION: Notice of withdrawal.

SUMMARY: The Department of Justice is announcing the withdrawal of four previously announced Advance Notices of Proposed Rulemaking (ANPRMs), pertaining to title II and title III of the Americans with Disabilities Act (ADA), for further review.

DATES: As of December 26, 2017, these four previously announced ANPRMs are formally withdrawn.

ADDRESSES: Disability Rights Section, Civil Rights Division, U.S. Department of Justice, P.O. Box 2885, Fairfax, VA 22031-0885.

FOR FURTHER INFORMATION CONTACT: Anne Raish, Acting Chief, Disability Rights Section, Civil Rights Division, U.S. Department of Justice, at (202) 307-0663 (voice or TTY) (not a toll-free number). Information may also be obtained from the Department's toll-free ADA Information Line at (800) 514-0301 (voice), or (800) 514-0383 (TTY).

You may obtain copies of this document in an alternative format by calling the ADA Information Line at (800) 514-0301 (voice), or (800) 514-0383 (TTY).

SUPPLEMENTARY INFORMATION: The Department of Justice is formally announcing the withdrawal of four previously announced Advance Notices of Proposed Rulemaking (ANPRMs) pertaining to title II and title III of the Americans with Disabilities Act (ADA): (1) Nondiscrimination on the Basis of Disability; Accessibility of Web Information and Services of Public Accommodations (RIN 1190-AA61); (2) Nondiscrimination on the Basis of Disability in State and Local Government Services; Next Generation 9-1-1 (RIN 1190-AA62); (3) Nondiscrimination on the Basis of Disability by State and Local Governments and Places of Public Accommodation; Equipment and Furniture (RIN 1190-AA64); and (4) Nondiscrimination on the Basis of Disability: Accessibility of Web Information and Services of State and Local Government (RIN 1190-AA65).

Reasons for Withdrawal

A. Accessibility of Web Information

On July 26, 2010, the Department published an ANPRM regarding the accessibility of Web information and services of state and local government entities (title II) and public accommodations (title III). 75 FR 43460. The Department subsequently bifurcated the rulemaking to deal separately with state and local government entities subject to title II (RIN 1190-AA65) and public accommodations subject to title III (RIN 1190-AA61), and proceeded first with the title II rulemaking. On May 9, 2016, the Department published a Supplemental Advance Notice of Proposed Rulemaking (SANPRM) regarding title II Web accessibility to seek additional public input regarding a wide range of issues pertaining to the accessibility of Web information and services of state and local governments. 81 FR 28658. The Department has not published any rulemaking document regarding title III Web accessibility since the 2010 ANPRM.

The Department is evaluating whether promulgating regulations about the accessibility of Web information and services is necessary and appropriate. Such an evaluation will be informed by additional review of data and further analysis. The Department will continue to assess whether specific technical standards are necessary and appropriate to assist covered entities with complying with the ADA. Accordingly, the Department is withdrawing the two previously announced ANPRMs related to the accessibility of Web information and services, “Nondiscrimination on the Basis of Disability; Accessibility of Web Information and Services of State and Local Government Entities and Public Accommodations” (RIN 1190-AA61) (75 FR 43460), and “Nondiscrimination on the Basis of Disability: Accessibility of Web Information and Services of State and Local Government” (RIN 1190-AA65) (81 FR 28658).

B. Accessibility of Equipment and Furniture

The Department initiated a review of accessibility of equipment and furniture on July 26, 2010, with the publication of an ANPRM to consider possible changes to requirements under titles II and III of the ADA to ensure that non-fixed equipment and furniture provided by covered entities are accessible to individuals with disabilities. 75 FR 43452. While some types of fixed equipment and furniture are explicitly covered by the ADA Standards for Accessible Design, see, e.g., 28 CFR 36.406(b), there are currently no specific provisions in the ADA regulations that include standards governing the accessibility of equipment and furniture that are not fixed. The Department has not published any rulemaking document regarding non-fixed equipment and furniture since the 2010 ANPRM.

The Department is reevaluating whether regulation of the accessibility of non-fixed equipment and furniture is necessary and appropriate. Accordingly, the Department is withdrawing the previously announced ANPRM entitled “Nondiscrimination on the Basis of Disability by State and Local Governments and Places of Public Accommodation; Equipment and Furniture” (RIN 1190-AA64) (75 FR 43452).

C. Next Generation 9-1-1

On July 26, 2010, the Department published an ANPRM announcing the Department's intention to consider a rule to revise the ADA title II regulation to address how Public Safety Answering Points, which provide 9-1-1 services at the local level, can shift from analog telecommunications technology to new internet-Protocol-enabled Next Generation 9-1-1 (NG 9-1-1) services that will provide voice and data (such as text, pictures, and video) capabilities. 75 FR 43446. The Department has not published any rulemaking document regarding NG 9-1-1 since the 2010 ANPRM.

The Department is evaluating how best to address the accessibility of NG 9-1-1 services in light of changing circumstances. With the increased adoption of NG 9-1-1, the Department is evaluating whether regulatory action is necessary and appropriate to promote the increased availability of text to 9-1-1 services to improve access for people with communication disabilities. Accordingly, the Department is withdrawing the previously announced ANPRM entitled “Nondiscrimination on the Basis of Disability in State and Local Government Services; Accessibility of Next Generation 9-1-1” (RIN 1190-AA62) (75 FR 43446).

Conclusion

In consideration of the foregoing, the Department announces the withdrawal of the four above-named ANPRMs. Such ANPRMs had no force or effect of law, and no party should rely upon them as presenting the Department of Justice's position on these issues. This notification does not preclude the Department from issuing other documents on these subjects in the future or commit the Department to any future course of action, nor does it constitute an interpretation of existing law. Should the Department decide to undertake rulemaking in the future, the Department will publish new rulemaking actions and provide new opportunities for public comment. Furthermore, this notification only addresses the specific ANPRMs identified in this document, and does not address any other pending proposals that the Department has issued or is considering.

Dated: December 15, 2017.
John M. Gore,
Acting Assistant Attorney General, Civil Rights Division.

[FR Doc. 2017-27510 Filed 12-22-17; 8:45 am]

BILLING CODE 4410-13-P